ENVIRONMENTAL PROTECTION AGENCY

40 CFR Part 52

[Docket # WA-70-7148; FRL -7397-8]

Approval and Promulgation of Air Quality Implementation Plan; Washington

AGENCY: Environmental Protection Agency (EPA or “we”).

ACTION: Proposed rule.

SUMMARY: EPA is proposing to approve most, but not all of the State Implementation Plan (SIP) revisions for visibility submitted by the State of Washington on November 5, 1999. Significant provisions of this SIP revision that we propose to approve include an improved smoke management plan and the Southwest Air Pollution Control Agency (SWAPCA) emission limitations on the Centralia Power Plant located in central western Washington.

DATES: Comments must be received on or before November 22, 2002.

ADDRESSES: Written comments should be addressed to Steven K. Body, EPA, Region 10, Office of Air Quality (OAQ-107), 1200 Sixth Avenue, Seattle, Washington 98101. You may see copies of the relevant documents used in this proposed action during normal business hours at the following location: EPA Region 10, Office of Air Quality, 1200 Sixth Avenue, Seattle, Washington, 98101.

FOR FURTHER INFORMATION CONTACT: Steven K. Body, EPA Region 10, Office of Air Quality, at (206) 553-0782.

SUPPLEMENTARY INFORMATION: The supplementary information is organized in the following order:

Background

I. Background on Visibility

A. What is visibility protection and why do we have it?

B. What are the main visibility protections provided by federal rules?

C. How has visibility been protected in Washington?

II. What are the required provisions of a visibility SIP?

A. Long Term Strategy

B. Monitoring

C. BART

III. What does this proposed Visibility SIP revision change and how do these changes compare to federal requirements?

A. Provisions to revise the protection of Integral Vistas

B. Provisions to revise the Smoke Management Plan

i. What is Washington's Smoke Management Plan?

ii. How does Washington's 1999 proposed SIP Revision change the Plan?

iii. How does the Smoke Management Plan compare to federal requirements?

C. Provisions to include the SWAPCA RACT Emission Limitations for Centralia Power Plant

D. Provisions to revise the State's Best Available Retrofit Technology and New Source Review Rules

Administrative Requirements

Background

I. Background on Visibility

A. What Is Visibility Protection and Why Do We Have It?

Section 169A of the federal Clean Air Act (CAA or Act) requires states to protect visibility in mandatory Class I federal areas. Mandatory Class I federal areas are specified large National Parks or Wilderness Areas. In Washington, there are 8 mandatory Class I federal areas; the Mount Rainier National Park, North Cascades National Park, Olympic National Park, Alpine Lake Wilderness Area, Glacier Peak Wilderness Area, Goat Rocks Wilderness Area, Mount Adams Wilderness Area, and Pasayten Wilderness Area. 40 CFR 81.434 The federal rules regulating visibility protection are set out in 40 CFR part 51, subpart P.

B. What Are the Main Visibility Protections Provided by the Federal Rules?

The Clean Air Act sets out a goal of preventing any future and remedying any existing impairment of visibility in mandatory Class I federal areas. 42 U.S.C. 7491. Employing a close coordination process among the state and the federal land managers (FLM), the federal rules require monitoring of visibility in mandatory Class I federal areas, as well as the development of a long-term strategy for making reasonable progress towards the national visibility goal. The visibility protection rules also provide for an assessment of visibility impacts from any new or major modification to a major stationary source that may affect mandatory Class I federal areas. Additionally, in the event that a federal land manager certifies impairment of visibility in a mandatory Class I federal area that could be caused, or contributed to, by an existing stationary facility, emission limitations representing Best Available Retrofit Technology (BART) may be imposed on the facility.

The federal visibility rules were modified in 1999 to include provisions for addressing regional haze. See 64 FR 35714, July 1, 1999. Regional haze is visibility impairment which results from the cumulative impact of emissions from many point and non-point sources. All states are currently in the process of developing revisions to their SIPs to address the regional haze provisions. Therefore, the SIP submission under discussion in this action is not required to comply with the regional haze provisions of 40 CFR part 51, subpart P.

C. How Has Visibility Been Protected in Washington?

The initial proposed Visibility SIP for Washington was submitted by the State and approved in part by EPA on May 4, 1987, (52 FR 16243). EPA approved the Washington State Visibility Protection Program (with exceptions described below), certain provisions of 173-403 Washington Administrative Code (WAC) Implementation of Regulations for Air Contaminant Sources, and the 1983 Smoke Management Program. EPA disapproved Section V.B., the new source review program, Appendix A, the Proposed Best Available Retrofit Technology (BART) rule, and the Proposed New Source Review Regulations.

II. What are the Required Provisions of a Visibility SIP?

40 CFR 51.302 provides the requirements for Visibility SIPs. These requirements and how the Washington Visibility SIP meets these requirements are summarized below.

A. Long-Term Strategy

The SIP needs to include a long-term (10-15 year) strategy that includes emission limitations, schedules of compliance, and other measures as deemed necessary to make reasonable progress toward the national goal. See 40 CFR 51.302(c)(2)(i). In general, Section VI of the proposed 1999 SIP revision provides a discussion of the long-term strategy, including measures for stationary sources, mobile sources, area sources, and interstate coordination. The long-term strategy must include:

• A strategy for evaluating visibility in mandatory Class I federal areas by visual observation or other appropriate monitoring techniques. See 40 CFR 51.305(a). Section V of the proposed 1999 SIP revision provides for monitoring through the IMPROVE monitoring network and an assessment strategy.

• A provision for the available visibility data and provide a mechanism for its use in decisions required by the regulations. See 40 CFR 51.305(b). Section IX of the proposed 1999 SIP revision provides for the development and use of available data for SIP review and development.

• A strategy covering any existing impairment the Federal Land Manager certifies to the State and integral vista of which the Federal Land Manager notifies the State at least 6 months prior to plan submission. See 40 CFR 51.306(a)(1). Section I of the proposed 1999 SIP revision discusses certification of impairment in federal mandatory Class I areas. Section III of the proposed 1999 SIP revision discusses integral vistas.

• A discussion, with reasonable specificity, why the long-term strategy is adequate for making reasonable progress. See 40 CFR 51.306(a)(3). Section VI of the proposed 1999 SIP revision discusses all source categories, the control measures that apply to them, and a qualitative assessment of how these are adequate for making reasonable progress. Section IX of the proposed 1999 SIP revision discusses the evaluation of progress toward achieving the national visibility goal.

• Coordination of the long-term strategy with other existing plans and goals, including those provided by affected Federal Land Managers. See 40 CFR 51.306(a)(3). Section IV of the proposed 1999 SIP revision provides for the consultation with Federal Land Managers for the review and revision of the visibility SIP and New Source Review rules.

• Provisions for periodic review and revision as appropriate of not less than every three years. See 40 CFR 51.306(c). This review must include:

(1) Progress achieved in remedying existing impairment;

(2) The ability of the long-term strategy to prevent future impairment;

(3) Any change in visibility since the last report;

(4) Additional measures, including the need for SIP revisions that may be needed to assure reasonable progress;

(5) The progress achieved in implementing BART and meeting other schedules set forth in the long-term strategy; and

(6) The impact of any exemption granted under 40 CFR 51.303.

(7) The need for BART to remedy existing visibility impairment of any integral vista.

Section IV of the proposed 1997 SIP revision provides for the review of the visibility SIP.

• Provisions for review of the impacts of any new or modified major stationary source. See 40 CFR 51.306(d). The Washington Department of Ecology has a fully delegated Prevention of Significant Deterioration (PSD) program. The Department of Ecology was notified of this delegation by letter dated February 7, 2002.

B. Monitoring

The plan must contain an assessment of visibility impairment and a discussion of how each element of the plan relates to preventing future or remedying existing impairment. See 40 CFR 51.302(c)(2)(ii). Section V of the proposed 1999 SIP revision provides for visibility monitoring of the mandatory Class I federal areas. Section IV of the proposed 1999 SIP revision provides a general discussion of the effect of measures on preventing future and remedying existing impairment.

C. BART

The plan must contain emission limitations representing BART for any existing facility that meets the requirements of 40 CFR 51.301(e), and for which impairment has been certified by the Federal Land managers and for which the State has determined such impairment is reasonably attributed to that source. (40 CFR 51.302(c)(2)(iii).

The State has not determined that existing impairment in any mandatory Class I federal area for which impairment has been certified can be reasonably attributed to a specific major stationary source.

III. What Does This Proposed Visibility SIP Revision Change and How Do These Changes Compare to the Federal Requirements?

A. Provisions To Revise the Protection of Integral Vistas

The 1987 SIP included a list of “Preliminary Integral Vistas” that were proposed by the National Park Service (NPS). The 1987 SIP provides that until the NPS finalizes the list of vistas, the panoramas listed in the January 15, 1981 Federal Register (Table III-2) will be protected under the visibility SIP. These integral vistas were never finalized by the NPS in accord with 40 CFR 51.304. Thus, there are no federally recognized Integral Vistas to be protected. In the interim, no emission limitation was established for a source that specifically protected an integral vista, nor is the State proposing to revise and relax an emission limitation established for integral vista protection. The 1999 proposed SIP revision removes the provisions that would have continued these protections. The federal visibility regulations (40 CFR 51.304(d)) indicate that a state need not in its implementation plan list any integral vista the identification of which was not made in accordance with the criteria in 40 CFR 51.304(a). Since no integral vistas have been identified by the FLM, there is no relaxation of SIP emission requirements and since the 1999 proposed SIP revision meets the applicable requirements for visibility protection in mandatory Class I federal areas, EPA proposes approval of this revision.

B. Provisions To Revise the Smoke Management Plan

i. What Is Washington's Smoke Management Plan?

Washington's Smoke Management Plan (SMP) is a program designed to manage smoke impacts from the burning of silviculture and agriculture wastes. The SMP balances forest and agricultural land burning with preventing smoke from being carried to, or accumulating in, designated areas and other areas sensitive to smoke.

ii. How Does Washington's 1999 Proposed SIP Revision Change the Plan?

The Smoke Management Plan (SMP) of 1998 submitted in the proposed 1999 Visibility SIP revision is a significant improvement over the 1983 SMP included in the 1987 SIP. The 1983 SMP provides for reduced emissions through optimization of fuel conditions (i.e. dry fuel), improves ventilation and dispersion through meteorology, and minimizes impact by controlling smoke drift into populated areas. There is no consideration for protection of visibility in mandatory Class I federal areas.

The 1998 SMP requires approval from the Resource Protection Division Manager, Department of Natural Resources for all burns. Approval requirements differ depending whether the fire is a “large fire” involving over 100 tons of fuel or small fire. Large fire burn approval considers a number of factors including likelihood of intrusion into populated areas and Class I areas, air quality regulations, violation of emission reductions targets, violations of another state's air quality standards, and whether smoke will disperse within given timeframes. Operators of small fires (less than 100 ton of fuel) must call a toll free phone number and follow the instructions that apply for that day and location of the proposed burn.

The SMP further requires emissions from burning be reduced by 20% from baseline levels (defined in the SMP) by December 1994 and until December 2000. Emissions from burning must be permanently reduced by 50% from baseline levels by December 2000.

iii. How Does the Smoke Management Plan Compare to Federal Requirements?

The visibility protection provisions at 40 CFR part 51, subpart P suggest that states consider Smoke Management Plans in developing long-term strategies for visibility protection. However, there are no specific federal requirements for states to develop and adopt Smoke Management Plans. In September 1992, the Environmental Protection Agency published The Prescribed Burning Background Document and Technical Information Document for Best Available Control Measures to assist states in the development of Smoke Management Plans (EPA-450/2-92-003). These are a few examples of how the federal government acknowledges the benefits of smoke management plans.

C. Provisions To Include the SWAPCA RACT Emission Limits for Centralia Power Plant

Centralia Power Plant (CPP) is a coal fired electrical generating station that has a potential to emit (PTE) 90,000 t/yr SO2. It is a BART eligible source as defined by 40 CFR 51.301. It is located near the mandatory Class I federal area, Mt. Rainier National Park in Washington state. The National Park Service has certified visibility impairment at Mt. Rainier National Park. The State of Washington has NOT determined that this visibility impairment is reasonably attributable to the CPP.

The SIP must contain emission limitations representing BART and schedules for compliance with BART for each existing stationary facility identified according to 40 CFR 51.302 (c)(4). The state needs to identify each existing facility which may reasonably be anticipated to cause or contribute to impairment of visibility in any Class I federal areas where the impairment in the mandatory Class I area is reasonably attributable to that existing stationary facility. The State has not identified any source or group of small sources, including the Centralia Power Plant (CPP), as existing facilities that may reasonably be expected to contribute to visibility impairment to Class I areas. Therefore, under 40 CFR 51.302(c)(4), a BART analysis is not required for CPP. In the future regional haze SIP, a BART analysis may be required for the CPP under 40 CFR 51.308(e).

In a separate activity the State, Southwest Air Pollution Control Authority (SWAPCA), the National Park Service and Forest Service, owners of the CPP, and EPA entered into a negotiated agreement to establish emission limits for SO2, NOX, and PM-10 for the CPP. The SWAPCA, who has regulatory authority over the CPP, issued the CPP a Reasonably Available Control Technology (RACT) order under state law that contain emission limitations. This RACT Order is included in the proposed 1999 Visibility SIP revision.

Both SWAPCA in their Technical Support Document for the RACT Order and EPA Region 10 have independently conducted an analysis of the emission limits in the RACT Order comparing them against what would have been required using the Clean Air Act definition of BART and EPA BART guidelines. Additional details on this analyses can be found in the Technical Support Document accompanying this proposed action and docket of this proposed action. The conclusion of both analysis is that the RACT Order emission limits for SO2 and PM-10 represent BART. EPA proposes to approve these emissions limitations as meeting the BART requirements of 40 CFR 51.308(c)(4). Additionally, while the NOX emission limitation may have represented BART when the emission limits in the RACT Order were negotiated, recent technology advancements have been made. EPA cannot say that the emission limitations in the SWAPCA RACT Order for NOX represent BART. However EPA proposes to approve the emission limits for NOX as a strengthening of the SIP for visibility purposes.

D. Provisions To Revise the State's Best Available Retrofit Technology and New Source Review Rules

The proposed 1999 SIP revision also included revised rules for Best Available Retrofit Technology (BART) (WAC 173-400-151 and New Source Review (NSR) (WAC 173-400-110, 112, 113, & 141). Subsequent to the submittal in 1999, the State has verbally indicated that new rules are being developed and the rules in this submittal will soon be obsolete. EPA proposes to take no action on these rules.

Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Incorporation by reference, Intergovernmental relations, Particulate matter, Reporting and recordkeeping requirements.

Dated: October 10, 2002.
Ronald A. Kreizenbeck,
Acting Regional Administrator, EPA, Region 10.

[FR Doc. 02-26992 Filed 10-22-02; 8:45 am]

BILLING CODE 6560-50-P